DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations (3-5 minutes) before the Committee. In all instances, your comments about agencies seeking initial recognition, continued recognition and/or an expansion of an agency's scope of recognition must relate to the Criteria for Recognition. In addition, your comments for any agency whose interim report is scheduled for review must relate to the issues raised and the Criteria for Recognition cited in the Secretary's letter that requested the interim report. This notice also presents the proposed agenda and informs the public of its opportunity to attend this meeting. The notice of this meeting is required under section 10(a)(2) of the Federal Advisory Committee Act.

When and Where Will the Meeting Take Place?

We will hold the public meeting on Tuesday, December 18, 2007, from 8:30 a.m. until approximately 5:30 p.m. and on Wednesday, December 19, 2007, from 8:30 a.m. until approximately 12 p.m. in the Mt. Vernon Rooms A and B at The Madison, 1177 Fifteenth Street, NW., Washington, DC 20005. You may call the hotel at (202) 862-1600 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Melissa Lewis, Executive Director of the National Advisory Committee on Institutional Quality and Integrity, if you have questions about the meeting. You may contact her at the U.S. Department of Education, Room 7127, 1990 K St., NW., Washington, DC 20006, telephone: (202) 219-7009, fax: (202) 219-7008, e-mail: Melissa.Lewis@ed.gov.

Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the Criteria for Recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition and/or an expansion of an agency's scope of recognition, and the review of agencies that have submitted an interim report.

What Agencies Will the National Advisory Committee Review at the Meeting?

The following agencies will be reviewed during the December 18-19, 2007 meeting of the National Advisory Committee:

Nationally Recognized Accrediting Agencies

Petition for Renewal of Recognition That Includes a Contraction of the Scope of Recognition

1. American Optometric Association, Accreditation Council on Optometric Education (Current scope of recognition: The accreditation in the United States of professional optometric degree programs, optometric technician (associate degree) programs, and optometric residency programs and for the preaccreditation categories of Preliminary Approval and Reasonable Assurance for professional optometric degree programs and Candidacy Pending for optometric residency programs in Veterans' Administration facilities.)

(Requested scope of recognition: The accreditation in the United States of professional optometric degree programs, optometric technician (associate degree) programs, and optometric residency programs and for the preaccreditation categories of Preliminary Approval for professional optometric degree programs and Candidacy Pending for optometric residency programs in Department of Veterans' Affairs facilities.)

Petitions for Renewal of Recognition That Includes an Expansion of the Scope of Recognition

1. National Association of Schools of Art and Design, Commission on Accreditation (Current scope of recognition: The accreditation throughout the United States of institutions and units within institutions offering degree-granting and non-degree-granting programs in art and design and art and design-related disciplines.)

(Requested scope of recognition: The accreditation throughout the United States of free-standing institutions and units offering art/design and art/design-related programs (both degree- and non-degree-granting), including those offered via distance education.)

2. National Association of Schools of Dance, Commission on Accreditation (Current scope of recognition: The accreditation throughout the United States of institutions, and units within institutions offering degree-granting and non-degree-granting programs in dance and dance-related disciplines.)

(Requested scope of recognition: The accreditation throughout the United States of free-standing institutions and units offering dance and dance-related programs (both degree- and non-degree-granting), including those offered via distance education.)

3. National Association of Schools of Music, Commission on Accreditation, Commission on Community/Junior College Accreditation (Current scope of recognition: The accreditation throughout the United States of institutions and units within institutions offering degree-granting programs in music and music-related disciplines, including community/junior colleges and independent degree-granting and non-degree-granting institutions.)

(Requested scope of recognition: The accreditation throughout the United States of free-standing institutions and units offering music and music-related programs (both degree- and non-degree-granting), including those offered via distance education.)

4. National Association of Schools of Theatre, Commission on Accreditation (Current scope of recognition: The accreditation throughout the United States of institutions, and units within institutions, offering degree-granting and non-degree-granting programs in theatre and theatre-related disciplines.)

(Requested scope of recognition: The accreditation throughout the United States of free-standing institutions and units offering theatre and theatre-related programs (both degree- and non-degree-granting), including those offered via distance education.)

5. New England Association of Schools and Colleges, Commission on Institutions of Higher Education (Current scope of recognition: The accreditation and preaccreditation (“Candidacy status”) of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions. This recognition extends to the Board of Trustees of the Association jointly with the Commission for decisions involving preaccreditation, initial accreditation, and adverse actions.)

(Requested scope of recognition: The accreditation and preaccreditation (“Candidacy status”) of institutions of higher education in Connecticut, Maine, Massachusetts, New Hampshire, Rhode Island, and Vermont that award associate's, bachelor's, master's, and/or doctoral degrees, including the accreditation of programs offered via distance education within these institutions. This recognition extends to the Board of Trustees of the Association jointly with the Commission for decisions involving preaccreditation, initial accreditation, and adverse actions.)

6. North Central Association of Colleges and Schools, The Higher Learning Commission (Current scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including schools of the Navajo Nation and the accreditation of programs offered via distance education within these institutions. This recognition extends to the Institutional Actions Committee jointly with the Board of Trustees of the Commission for decisions on cases for continued accreditation or reaffirmation, and continued candidacy. This recognition also extends to the Review Committee of the Accreditation Review Council jointly with the Board of Trustees of the Commission for decisions on cases for continued accreditation or candidacy and for initial candidacy or initial accreditation when there is a consensus decision by the Review Committee.)

(Requested scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education within these institutions. This recognition extends to the Institutional Actions Committee jointly with the Board of Trustees of the Commission for decisions on cases for continued accreditation or reaffirmation, and continued candidacy. This recognition also extends to the Review Committee of the Accreditation Review Council jointly with the Board of Trustees of the Commission for decisions on cases for continued accreditation or candidacy and for initial candidacy or initial accreditation when there is a consensus decision by the Review Committee.)

Petitions for Renewal of Recognition

1. Accrediting Council for Continuing Education and Training (Current scope of recognition: The accreditation of institutions of higher education throughout the United States that offer continuing education programs and those that offer occupational associate degree programs and those that offer such programs via distance education.)

(Requested scope of recognition: The accreditation throughout the United States of institutions of higher education that offer continuing education coursework and vocational programs that confer certificates or occupational associate degree, including those programs offered via distance education.)

2. American Academy for Liberal Education (Current and requested scope of recognition: The accreditation and preaccreditation (“Candidacy for Accreditation”) of institutions of higher education and programs within institutions of higher education throughout the United States that offer liberal arts degree(s) at the baccalaureate level or a documented equivalency.)

3. Midwifery Education Accreditation Council (Current and requested scope of recognition: The accreditation and preaccreditation throughout the United States of direct-entry midwifery educational institutions and programs conferring degrees and certificates, including the accreditation of such programs offered via distance education.)

4. Northwest Commission on Colleges and Universities (Current scope of recognition: The accreditation and preaccreditation (“Candidacy status”) of postsecondary educational institutions in Alaska, Idaho, Montana, Nevada, Oregon, Utah, and Washington and the accreditation of such programs offered via distance education within these institutions.)

(Requested scope of recognition: The accreditation and preaccreditation (“Candidacy status”) of postsecondary degree-granting educational institutions in Alaska, Idaho, Montana, Nevada, Oregon, Utah, and Washington and the accreditation of such programs offered via distance education within these institutions.)

5. Western Association of Schools and Colleges, Accrediting Commission for Community and Junior Colleges (Current scope of recognition: The accreditation and preaccreditation (“Candidate for Accreditation”) of community and junior colleges located in California, Hawaii, the United States territories of Guam and American Samoa, the Republic of Palau, the Federated States of Micronesia, the Commonwealth of the Northern Mariana Islands, and the Republic of the Marshall Islands, and the accreditation of such programs offered via distance education at these colleges.)

(Requested scope of recognition: The accreditation and preaccreditation (“Candidate for Accreditation”) of two-year, Associate degree granting institutions located in California, Hawaii, the United States territories of Guam and American Samoa, the Republic of Palau, the Federated States of Micronesia, the Commonwealth of the Northern Mariana Islands, and the Republic of the Marshall Islands, and the accreditation of such programs offered via distance education at these colleges.)

Interim Reports (An interim report is a follow-up report on an accrediting agency's compliance with specific criteria for recognition.)

1. Accrediting Council for Independent Colleges and Schools.

2. Accreditation Council for Pharmacy Education.

3. American College of Nurse-Midwives, Division of Accreditation.

4. The Council on Chiropractic Education, Commission on Accreditation.

5. National Accrediting Commission of Cosmetology Arts and Sciences.

6. Southern Association of Colleges and Schools, Commission on Colleges.

Expansion of Scope

1. The Association for Biblical Higher Education, Commission on Accreditation (Current scope of recognition: The accreditation and preaccreditation (“Candidate for Accreditation”) of Bible colleges and institutes in the United States offering undergraduate programs.)

(Requested scope of recognition: The accreditation and preaccreditation of institutions of biblical higher education in the United States offering undergraduate programs through both campus-based instruction and distance education.)

2. Joint Review Committee on Education in Radiologic Technology (Current scope of recognition: The accreditation of educational programs in radiography, including magnetic resonance, radiation therapy, and medical dosimetry, at the certificate, associate, and baccalaureate levels.)

(Requested scope of recognition: The accreditation of educational programs in radiography, magnetic resonance, radiation therapy, and medical dosimetry, including those offered through distance education, at the certificate, associate, and baccalaureate levels.)

State Agency Recognized for the Approval of Public Postsecondary Vocational Education

Petition for Renewal of Recognition

1. Puerto Rico State Agency for the Approval of Public Postsecondary Vocational, Technical Institutions and Programs

The agency listed below, which was originally scheduled for review during the National Advisory Committee's December 2007 meeting, will be postponed to a future meeting.

Proposed Master's Degree-Granting Authority

1. United States Naval Test Pilot School, Patuxent River, Maryland (request to award a Master's of Science in Flight Test Engineering Degree.)

Who Can Make Third-Party Oral Presentations at This Meeting?

We invite you to make a third-party oral presentation before the National Advisory Committee concerning the recognition of any agency published in this notice.

How Do I Request to Make an Oral Presentation?

You must submit a written request to make an oral presentation concerning an agency listed in this notice to the contact person identified earlier in this notice so that the request is received via mail, fax, or e-mail no later than November 19, 2007. Your request (no more than 6 pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the November 19, 2007 deadline will not be distributed to the National Advisory Committee for their consideration. Individuals making oral presentations may not distribute written materials at the meeting.

If I Cannot Attend the Meeting, Can I Submit Written Comments Regarding an Accrediting Agency in Lieu of Making an Oral Presentation?

This notice requests third-party oral testimony, not written comment. Requests for written comments on agencies that are being reviewed during this meeting were published in the Federal Register on August 1 and September 11, 2007. The National Advisory Committee will receive and consider only written comments submitted by the deadline specified in the above-referenced Federal Register notice.

How Do I Request To Present Comments Regarding General Issues Rather Than Specific Accrediting Agencies?

At the conclusion of the meeting, the National Advisory Committee, at its discretion, may invite attendees to address the Committee briefly on issues pertaining to the functions of the Committee, which are listed earlier in this notice. If you are interested in making such comments, you should inform Ms. Lewis before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: October 2, 2007.
Diane Auer Jones,
Assistant Secretary, Office of Postsecondary Education.

[FR Doc. E7-19874 Filed 10-9-07; 8:45 am]

BILLING CODE 4000-01-P